DEPARTMENT OF THE INTERIOR

Fish and Wildlife Service

[FWS-R4-R-2008-N00160; 40136-1265-0000-S3]

Upper Ouachita and Handy Brake National Wildlife Refuges, Morehouse, Union, Richland, East Carroll, West Carroll, Natchitoches, and Grant Parishes, LA

AGENCY: Fish and Wildlife Service, Interior.

ACTION: Notice of availability: final comprehensive conservation plan and finding of no significant impact.

SUMMARY: We, the Fish and Wildlife Service (Service), announce the availability of our final comprehensive conservation plan (CCP) and finding of no significant impact (FONSI) for Upper Ouachita and Handy Brake National Wildlife Refuges. In the final CCP, we describe how we will manage these refuges for the next 15 years.

ADDRESSES: A copy of the CCP may be obtained by writing to: North Louisiana National Wildlife Refuge Complex, 11372 Highway 143, Farmerville, LA 71241. The CCP may also be accessed and downloaded from the Service's Web site: http://southeast.fws.gov/planning/.

FOR FURTHER INFORMATION CONTACT: Mr. George Chandler; Telephone: 318-726-4222; Fax: 318-726-4667; e-mail: george_chandler@fws.gov.

SUPPLEMENTARY INFORMATION:

Introduction

With this notice, we finalize the CCP process for Upper Ouachita and Handy Brake National Wildlife Refuges. We started this process through a notice in the Federal Register on July 13, 2005 (70 FR 40396).

The Upper Ouachita and Handy Brake National Wildlife Refuges, including 44 Farm Service Agency (FSA) lands, ranging in size from 3 acres to 1,000 acres, are units of the North Louisiana National Wildlife Refuge Complex. Upper Ouachita Refuge is in northeastern Louisiana. The northern boundary lies on the Louisiana-Arkansas state line. The refuge borders both sides of the Ouachita River, running north-south for 13.7 miles, extending 3.3 miles to the east and 16 miles to the west. The southernmost point on the refuge is approximately 20 miles north of Monroe, Louisiana. The current acquisition area encompasses 61,633 acres of which 42,594 acres have been purchased with 26,304 acres in Union Parish and 16,290 acres in Morehouse Parish.

Upper Ouachita Refuge was established in November 1978. The federally legislated purposes are “for use as an inviolate sanctuary, or for any other management purpose, for migratory birds” (Migratory Bird Conservation Act, 16 U.S.C. 715d); and for “* * * the conservation of the wetlands of the nation in order to maintain the public benefits they provide and to help fulfill international obligations contained in various migratory bird treaties and conventions * * *” (16 U.S.C. 3901(b)).

Upper Ouachita Refuge consists of 4,540 acres of pine and pine/hardwood forests, 19,767 acres of bottomland hardwood forests, 9,236 acres of reforested bottomlands, 2,000 acres of scrub/shrub, 1,182 acres of moist-soil plantings, 2,541 acres of agricultural fields, 418 acres of fallow agricultural fields, and 2,910 acres of open water.

The USDA Farm Service Agency units were established in 1990, in response to growing Fish and Wildlife Service land-based responsibilities off of traditional refuges. The Wetlands Office is responsible for the administration of wetland easements and fee title land transfers from the Farm Service Agency for conservation purposes (Consolidated Farm and Rural Development Act, 7 U.S.C. 2002) and for the benefit of endangered species, resident and migratory waterfowl, neotropical migratory birds, and other wildlife. The units also include the first fee title tract transfer from the Farm Service Agency to the Service, with the establishment of Handy Brake National Wildlife Refuge in 1988. The units consist of 36 Farm Service Agency easements, 7 fee title tracts, and 1 lease, all concentrated in northeastern Louisiana and encompassing 6 parishes. These units are spread across north Louisiana, ranging in size from 3 acres to 1,000 acres.

Handy Brake Refuge is primarily a permanent wetland of excellent habitat for wintering waterfowl, wading birds, and many other wetland-dependent species. A free lease of 35 acres of International Paper Company land provides an upland area overlooking the wetland. An observation deck in the upland area provides wildlife viewing opportunities into the wetlands. Habitat management within these units focuses primarily on reforestation of marginal agricultural areas and development and maintenance of moist-soil units. These varied habitats provide for a diverse array of wildlife. There is no hunting or fishing permitted throughout these units.

We announce our decision and the availability of the final CCP and FONSI for Upper Ouachita and Handy Brake National Wildlife Refuges in accordance with the National Environmental Policy Act (NEPA) (40 CFR 1506.6(b)) requirements. We completed a thorough analysis of impacts on the human environment, which we included in the draft comprehensive conservation plan and environmental assessment (Draft CCP/EA). The CCP will guide us in managing and administering Upper Ouachita and Handy Brake Refuges for the next 15 years. Alternative B is the foundation for the CCP.

The compatibility determinations for (1) wildlife observation and photography; (2) environmental education and interpretation; (3) fishing; and (4) cooperative farming are also available within the CCP.

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Comments

Approximately 100 copies of the Draft CCP/EA were made available for a 30-day public review period as announced in the Federal Register on March 21, 2008 (73 FR 15186). No comments on the Draft CCP/EA were received. The Draft CCP/EA identified and evaluated three alternatives for managing the refuge over the next 15 years.

Selected Alternative

After considering the comments we received and based on the professional judgment of the planning team, we selected Alternative B for implementation.

Biological potential of historical habitats will be restored and enhanced, with most management actions emphasizing natural ecological processes to foster habitat functions and wildlife populations. The biological program will be enhanced with inventorying and monitoring so that adaptive management can be implemented not only for migratory birds, but for other species of wildlife as well. A close evaluation of migratory bird use and nesting success on the refuge will be evaluated using granting opportunities and partnerships. To determine how forest management is affecting wildlife, partnerships will be developed to establish scientifically valid protocols and to collaboratively work on research projects. Upland forest management will focus on restoring the biological integrity of a mixed hardwood/pine forest by promoting upland hardwood species and reducing pine basal area. The Red-cockaded Woodpecker Habitat Unit will be managed using a more historic fire regime while providing red-cockaded woodpecker habitat as required in the recovery guidelines. Bottomland hardwood forest management will be developed on an inventory defining current condition that could be conducted in a logical and feasible manner. Bottoms will have management increased to open canopy cover and increase understory vegetation. Water control structures and pumping capability will be improved to enhance moist-soil and cropland management for the benefit of wintering waterfowl. Invasive species will be mapped and protocols for control established with the addition of a forester. Partnerships will continue to be fostered for several biological programs, hunting regulations, law enforcement issues, and research projects.

Public use will be similar to current management with a few improvements based on additional resources. Deer hunting will be allowed while monitoring the availability, diversity, and deer use of understory woody and herbaceous plants. This will allow refuge personnel to better understand the pressure being exerted on the habitat, enabling better habitat and harvest recommendations. On Upper Ouachita Refuge, youth turkey hunting will be allowed. Fishing events and boat launch facilities will be improved. Environmental education, wildlife observation, and wildlife photography will be accommodated at present levels, with minimal disturbance to wildlife and habitat. An enhanced nature trail, interpretive panels, and “check-out kits” for teachers will be developed. Law enforcement will be increased to gain better compliance with refuge regulations. Staffing will increase by four positions (e.g., biological technician, forestry technician, maintenance worker, and law enforcement officer). This will enable the refuges to increase biological inventorying and monitoring, enhance forest management, increase invasives control, enhance the public use program, and provide safe and compatible wildlife-dependent recreation.

Authority: This notice is published under the authority of the National Wildlife Refuge System Improvement Act of 1997, Public Law 105-57.

Dated: July 2, 2008.
Cynthia K. Dohner,
Acting Regional Director.

[FR Doc. E8-20978 Filed 9-9-08; 8:45 am]

BILLING CODE 4310-55-P